DEPARTMENT OF ENERGY

Federal Energy Regulatory Commission

Notice of Staff Attendance at the Southwest Power Pool Regional Entity Trustee, Regional State Committee, Members' Committee and Board of Directors' Meetings

The Federal Energy Regulatory Commission (Commission) hereby gives notice that members of its staff may attend the meetings of the Southwest Power Pool, Inc. Regional State Committee (RSC), Regional Entity Trustee (RET), Members' Committee and Board of Directors as noted below. Their attendance is part of the Commission's ongoing outreach efforts.

The meetings will be held at the SPP Corporate Campus, 201 Worthen Drive, Little Rock, AR 72223. The phone number is (502) 482-2524. All meetings are Central Time.

SPP RSC

October 29, 2018 (1:00 p.m.-5:00 p.m. CDT)

SPP Members/Board of Directors

October 30, 2018 (8:00 a.m.-3:00 p.m. CDT)

The discussions may address matters at issue in the following proceedings:

Docket No. ER12-1179, Southwest Power Pool, Inc.

Docket No. ER14-2850, Southwest Power Pool, Inc.

Docket No. ER14-2851, Southwest Power Pool, Inc.

Docket No. ER15-2028, Southwest Power Pool, Inc.

Docket No. ER15-2115, Southwest Power Pool, Inc.

Docket No. ER15-2237, Kanstar Transmission, LLC

Docket No. ER15-2594, South Central MCN LLC

Docket No. EL16-91, Southwest Power Pool, Inc.

Docket No. EL16-108, Tilton Energy v. Midcontinent Independent System Operator, Inc.

Docket No. EL16-110, Southwest Power Pool, Inc.

Docket No. ER16-204, Southwest Power Pool, Inc.

Docket No. ER16-1341, Southwest Power Pool, Inc.

Docket No. ER16-2522, Southwest Power Pool, Inc.

Docket No. ER16-2523, Southwest Power Pool, Inc.

Docket No. RM17-8, Reform of Generator Interconnection Procedures and Agreements

Docket No. EL17-11, Alabama Power Co. v. Southwest Power Pool, Inc.

Docket No. EL17-21, Kansas Electric Co. v. Southwest Power Pool, Inc.

Docket No. EL17-69, Buffalo Dunes et al. v. Southwest Power Pool, Inc.

Docket No. EL17-89, American Electric Power Service Corporation v. Midcontinent Independent System Operator, Inc., et. al.

Docket No. EL17-92, East Texas Electric Cooperative

Docket No. ER17-469, Southwest Power Pool, Inc.

Docket No. ER17-953, South Central MCN LLC

Docket No. ER17-1575, Southwest Power Pool, Inc.

Docket No. ER17-1610, Southwest Power Pool, Inc.

Docket No. AD18-8, Reform of Affected System Coordination in the Generator Interconnection Process

Docket No. EL18-9, Xcel Energy Services, Inc. v. Southwest Power Pool, Inc.

Docket No. EL18-12, ATX Southwest, LLC

Docket No. EL18-13, Transource Kansas, LLC

Docket No. EL18-14, Midwest Power Transmission Arkansas, LLC

Docket No. EL18-15, Kanstar Transmission, LLC

Docket No. EL18-16, South Central MCN, LLC

Docket No. EL18-19, Southwest Power Pool, Inc.

Docket No. EL18-20, Indicated SPP Transmission Owners v. Southwest Power Pool, Inc.

Docket No. EL18-26, EDF Renewable Energy, Inc. v. Midcontinent Independent System Operator, Inc., Southwest Power Pool, Inc., and PJM Interconnection, L.L.C.

Docket No. EL18-35, Southwest Power Pool, Inc.

Docket No. EL18-58, Oklahoma Municipal Power Authority v. Oklahoma Gas and Electric Co.

Docket No. EL18-194, Nebraska Public Power District v. Tri-State Generation and Transmission Association, Inc. and Southwest Power Pool, Inc.

Docket No. ER18-99, Southwest Power Pool, Inc.

Docket No. ER18-171, Southwest Power Pool, Inc.

Docket No. ER18-194, Southwest Power Pool, Inc.

Docket No. ER18-195, Southwest Power Pool, Inc.

Docket No. ER18-499, Southwestern Electric Power Company

Docket No. ER18-500, Southwestern Electric Power Company

Docket No. ER18-564, South Central MCN LLC

Docket No. ER18-572, South Central MCN LLC.

Docket No. ER18-831, Southwest Power Pool, Inc.

Docket No. ER18-939, Southwest Power Pool, Inc.

Docket No. ER18-1267, South Central MCN LLC

Docket No. ER18-1632, Southwest Power Pool, Inc.

Docket No. ER18-1702, Southwest Power Pool, Inc.

Docket No. ER18-1872, Southwest Power Pool, Inc.

Docket No. ER18-1969, Southwest Power Pool, Inc.

Docket No. ER18-1970, Midcontinent Independent System Operator, Inc.

Docket No. ER18-1974, Otter Tail Power, Inc..

Docket No. ER18-2114, Southwest Power Pool, Inc.

Docket No. ER18-2135, Southwest Power Pool, Inc.

Docket No. ER18-2145, Southwest Power Pool, Inc.

Docket No. ER18-2218, Southwest Power Pool, Inc.

Docket No. ER18-2243, Southwest Power Pool, Inc.

Docket No. ER18-2245, Southwest Power Pool, Inc.

Docket No. ER18-2266, Southwest Power Pool, Inc.

Docket No. ER18-2318, Southwest Power Pool, Inc.

Docket No. ER18-2324, Northwestern Corporation

Docket No. ER18-2326, Southwest Power Pool, Inc.

Docket No. ER18-2358, Southwest Power Pool, Inc.

Docket No. ER18-2385, Southwest Power Pool, Inc.

Docket No. ER18-2430, Southwest Power Pool, Inc.

Docket No. ER18-2310, Southwest Power Pool, Inc.

Docket No. ER18-2431, Southwest Power Pool, Inc.

Docket No. ER18-2343, Southwest Power Pool, Inc.

Docket No. ER18-2349, Southwestern Electric Power Company

Docket No. ER18-2374, Southwestern Electric Power Company

Docket No. ER18-2382, Southwest Power Pool, Inc.

Docket No. ER18-2383, Southwest Power Pool, Inc.

Docket No. ER18-2404, Southwest Power Pool, Inc.

Docket No. ER18-2430, Southwest Power Pool, Inc.

Docket No. ER18-2431, Southwest Power Pool, Inc.

Docket No. ER18-2437, Southwest Power Pool, Inc.

Docket No. ER18-2445, Southwest Power Pool, Inc.

Docket No. ER18-2450, Southwest Power Pool, Inc.

Docket No. ER18-2376, Southwest Power Pool, Inc.

Docket No. ER18-2474, Southwest Power Pool, Inc.

Docket No. ER18-2494, Southwest Power Pool, Inc.

Docket No. ER18-2499, Southwest Power Pool, Inc.

Docket No. ER18-2500, Southwest Power Pool, Inc.

Docket No. ER19-4, Southwest Power Pool, Inc.

Docket No. ER19-17, Southwest Power Pool, Inc.

Docket No. ER19-97, Southwest Power Pool, Inc.

Docket No. RR18-3, North American Electric Reliability Corp.

Docket No. TX18-1, AEP Energy Partners, Inc.

This meeting is open to the public.

For more information, contact Patrick Clarey, Office of Energy Market Regulation, Federal Energy Regulatory Commission at (317) 249-5937 or patrick.clarey@ferc.gov.

Dated: October 18, 2018.
Nathaniel J. Davis, Sr.,
Deputy Secretary.

[FR Doc. 2018-23194 Filed 10-23-18; 8:45 am]

BILLING CODE 6717-01-P